FEDERAL COMMUNICATIONS COMMISSION

47 CFR Part 73

[DA 01-286; MM Docket Nos. 01-33, 01-34; RM-10060, RM-10061]

Radio Broadcasting Services; Warsaw, Windsor, MO, and Caro, Cass City, MI

AGENCY: Federal Communications Commission.

ACTION: Proposed rule.

SUMMARY: The Commission requests comment on two petitions for rulemaking. One filed by Edwards Communications, L.C., licensee of Station WIDL(FM), Caro, Michigan, proposes the substitution of Channel 221C3 for Channel 221A at Caro, Michigan, and the reallotment of Channel 221C3 from Caro to Cass City, Michigan. Channel 221C3 can be allotted at Cass City in compliance with the Commission's minimum distance separation requirements, with respect to domestic allotments, at a site 4.9 kilometers (3.0 miles) northeast of the community at coordinates 48-38-20 NL and 83-08-38 WL. The second, filed by D&H Media, permittee of Station KWKJ(FM), Warsaw, Missouri, proposes the reallotment of Channel 253A from Warsaw to Windsor, Missouri. Channel 253A can be allotted at Windsor in compliance with the Commission's minimum distance separation requirements, with respect to domestic allotments, without the imposition of a site restriction at coordinates 38-31-56 NL and 93-31-19 WL.

DATES: Comments must be filed on or before April 5, 2001 and reply comments must be filed on or before April 20, 2001.

ADDRESSES: Federal Communications Commission, 445 Twelfth Street, S.W., Washington, DC 20554. In addition to filing comments with the FCC, interested parties should serve petitioner(s) as follows: for MM Docket No. 01-33, Edwards Communications, L.C., C/O John S. Neely, Miller and Miller, P.C., P.O. Box 33003 Washington, DC 20033; for MM Docket No. 01-34, D&H Media, C/O Howard J. Barr, Pepper and Corazzini, LLP, 1776 K Street, NW., Suite 200, Washington, DC 20006-2334.

FOR FURTHER INFORMATION CONTACT: Victoria M. McCauley, Mass Media Bureau, (202) 418-2180.

SUPPLEMENTARY INFORMATION: This is a synopsis of the Commission's Notice of Proposed Rule Making, MM Docket Nos. 01-33 and 01-34, adopted January 31, 2001, and released February 9, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Michigan is amended to remove Caro, Channel 221A and add Cass City, Channel 221C3.

3. Section 73.202(b), the Table of FM Allotments under Missouri is amended to remove Channel 253A at Warsaw and add Windsor, Channel 253A.

Federal Communications Commission.
John A. Karousos,
Chief, Allocations Branch, Policy and Rules Division, Mass Media Bureau.

[FR Doc. 01-4323 Filed 3-6-01; 8:45 am]

BILLING CODE 6712-01-P